SMALL BUSINESS ADMINISTRATION

[Declaration of Disaster #3546]

Commonwealth of Virginia (Amendment #1)

In accordance with a notice received from the Department of Homeland Security—Federal Emergency Management Agency, effective September 22, 2003, the above numbered declaration is hereby amended to include the Independent Cities of Colonial Heights, Danville, Falls Church, Fairfax, Petersburg, Richmond, Staunton, and Waynesboro, and the counties of Arlington, Augusta, Brunswick, Caroline, Chesterfield, Essex, Fairfax, Fluvanna, Goochland, Henrico, Mecklenburg, Orange, Page, Prince William, Rockbridge, Spotsylvania, and Stafford Counties in the Commonwealth of Virginia as disaster areas due to damages caused by Hurricane Isabel occurring on September 18, 2003 and continuing.

In addition, applications for economic injury loans from small businesses located in the contiguous counties of Albemarle, Alleghany, Amelia, Amherst, Bath, Bedford, Botetourt, Buckingham, Charlotte, Culpeper, Cumberland, Fauquier, Greene, Halifax, Hanover, Highland, King William, Loudoun, Louisa, Lunenburg, Madison, Nelson, Nottoway, Pittsylvania, Powhatan, Rappahannock, Rockingham, Shenandoah, and Warren in the Commonwealth of Virginia; Pendleton County in the State of West Virginia; Charles and Montgomery Counties in the State of Maryland; and Granville, Vance, and Warren Counties in the State of North Carolina may be filed until the specified date at the previously designated location. All other counties contiguous to the above named independent cities and primary counties have been previously declared.

All other information remains the same, i.e., the deadline for filing applications for physical damage is November 17, 2003, and for economic injury the deadline is June 18, 2004.

(Catalog of Federal Domestic Assistance Program Nos. 59002 and 59008).
Dated: September 23, 2003.
Cheri L. Cannon,
Acting Associate Administrator for Disaster Assistance.

[FR Doc. 03-24688 Filed 9-29-03; 8:45 am]

BILLING CODE 8025-01-U